DEPARTMENT OF HOUSING AND URBAN DEVELOPMENT

[Docket No. FR-5220-C-04]

Notice of Funding Availability (NOFA) for the Continuum of Care Homeless Assistance Program: Extension of Application Due Date

AGENCY: Office of the Assistant Secretary for Community Planning and Development, HUD.

ACTION: Notice of Funding Availability (NOFA), Extension of Application Due Date.

SUMMARY: On July 10, 2008, HUD published the NOFA for the Continuum of Care (CoC) Homeless Assistance Program. Through this NOFA, HUD is making available approximately $1.42 billion in Fiscal Year (FY) 2008 for the CoC program. On August 13, 2008, HUD published a notice that established the deadline date for the submission of applications and corrected or clarified portions of the CoC NOFA. Since that date, Hurricane Ike has greatly impacted Continuums of Care in Texas, Louisiana and other places. In response to this disaster, today's publication extends the deadline date for the submission of applications.

DATES: The application deadline date for the CoC NOFA is Thursday, October 23, 2008. Electronic applications must be received by e-snaps by 4 p.m. eastern time on the deadline date. HUD will close e-snaps at 4:01 p.m. eastern time. Similarly, paper applications from applicants granted a waiver from the electronic application submission requirement must be received by HUD by 4 p.m. eastern time on the deadline date.

FOR FURTHER INFORMATION CONTACT: Individuals may direct questions regarding the CoC NOFA to the HUD Field Office serving their area, at the telephone numbers shown in HUD's FY2008 Notice of Funding Availability (NOFA); Policy Requirements and General Section to HUD's FY2008 NOFAs for Discretionary Programs (General Section) published on March 19, 2008 (73 FR 14883), or may contact the e-snaps Help Desk at 1-877-6esnaps (1-877-637-6277). Individuals who are hearing- or speech-impaired should use the Information Relay Service at 1-800-877-8339. These are toll-free numbers.

SUPPLEMENTARY INFORMATION: On April 30, 2008 (73 FR 23483), HUD published its Notice of FY2008 Opportunity to Register and Other Important Information for Electronic Application Submission for Continuum of Care Homeless Assistance Programs (CoC Early Registration Notice). The CoC Early Registration Notice alerted the public that HUD would require Continuums of Care to submit applications electronically, using e-snaps, an electronic system separate from Grants.gov. On July 10, 2008 (73 FR 39840), HUD published its CoC NOFA, making available approximately $1.42 billion in FY 2008 for the CoC program. The purpose of the CoC program is to reduce the incidence of homelessness in communities by assisting homeless individuals and families to move to self sufficiency and permanent housing. In the July 10, 2008, CoC NOFA, HUD stated that the application portion of the e-snaps system had not yet been launched and that HUD, as a result, was unable to establish a due date for the FY2008 CoC competition. HUD stated, however, that it would announce the application due date for the program through a separate Federal Register notice. On August 13, 2008 (73 FR 47205), HUD published a notice establishing the deadline date for the submission of applications and correcting or clarifying portions of the CoC NOFA published on July 10, 2008.

Today's publication extends the deadline date for applications to Thursday, October 23, 2008. The change in the deadline date for applications is in response to Hurricane Ike, which severely impacted Continuums of Care in Texas, Louisiana and other areas, and made it difficult for applicants in those localities to meet the previously established deadline. Because the new e-snaps system currently does not allow for the application to be available to a subset of applicants at any given time, the extension will apply to all applicants.

Deadline for Applications

The application deadline date for the CoC NOFA is extended to Thursday, October 23, 2008. Electronic applications must be received by e-snaps by 4 p.m. eastern time on the deadline date. HUD will close e-snaps at 4:01 p.m. eastern time. Similarly, paper applications from applicants granted a waiver from the electronic submission requirement must be received by HUD by 4 p.m. eastern time on the deadline date.

Dated: October 3, 2008.
Susan D. Peppler,
Assistant Secretary for Community Planning and Development.

[FR Doc. E8-23923 Filed 10-8-08; 8:45 am]

BILLING CODE 4210-67-P